DEPARTMENT OF HEALTH AND HUMAN SERVICES

Indian Health Service

42 CFR Part 36

Meeting of the Negotiated Rulemaking Committee on Joint Tribal and Federal Self-Governance

AGENCY: Indian Health Service, DHHS.

ACTION: Notice of meeting.

SUMMARY: The Secretary of the Department of Health and Human Services (DHHS) published a proposed rule in the Federal Register (67 FR 6998, February 14, 2002) to implement Title V of the Tribal Self-Governance Amendments of 2000, Pub. L. 106-260 (the Act). The proposed rule was negotiated among representatives of Self-Governance and non-Self-Governance Tribes and the DHHS and includes provisions governing how DHHS/Indian Health Service (IHS) carries out its responsibility to Indian Tribes under the Act and how Indian Tribes carry out their responsibilities under the Act. As required by section 517(b) of the Act, the DHHS developed the proposed rule with active Tribal participation of Indian Tribes, inter-Tribal consortia, Tribal organizations and individual Tribal members, using the guidance of the Negotiated Rulemaking Act, 5 U.S.C. 561 et seq.

The proposed rule was published in the Federal Register with a 60-day public comment period. Any interested party was invited to provide comment. To address comments received, a meeting is scheduled for the location and date provided below. As a result of the meeting, the Negotiated Rulemaking Committee on Joint Tribal and Federal Self-Governance (the Committee) may recommend changes in the proposed rule in response to comments received.

DATES: The Committee will meet as follows: April 15, 1:00 p.m.—6:00 p.m.,; April 16-17, 8:00 a.m.—6:00 p.m.; April 18, 8:30 a.m.—1:00 p.m., Bethesda, MD.

ADDRESSES: The location of the meeting is: Bethesda, MD—Bethesda Marriot, 5151 Pooks Hill Road, Bethesda, MD 20817.

FOR FURTHER INFORMATION CONTACT: Paula Williams , Director, Office of Tribal Self-Governance, Indian Health Service, 801 Thompson Avenue, Suite 240, Rockville, MD 20852, Telephone 301-443-7821. (This is not a toll-free number.)

SUPPLEMENTARY INFORMATION: The meeting will be open to the public without advance registration. Public attendance may be limited to the space available. Members of the public may make statements during the meeting to the extent time permits. A summary of the Committee meeting will be available for public inspection and copying ten days following the meeting at the address listed in the preceding paragraph.

Dated: March 25, 2002.
Duane L. Jeanotte,
Acting Director.

[FR Doc. 02-7527 Filed 3-28-02; 8:45 am]

BILLING CODE 4160-16-M